DEPARTMENT OF COMMERCE

Bureau of Economic Analysis

15 CFR Part 801

[Docket No. 250826-0146]

RIN 0691-AA94

Direct Investment Surveys: BE-13, Survey of New Foreign Direct Investment in the United States; Correction

AGENCY: Bureau of Economic Analysis, Commerce.

ACTION: Final rule; correction.

SUMMARY: The Bureau of Economic Analysis (BEA) published a final rule on September 3, 2025, amending the regulations of the Department of Commerce's Bureau of Economic Analysis (BEA) to set forth the reporting requirements for the BE-13, Survey of New Foreign Direct Investment in the United States (“BE-13 survey”). This correction is necessary to modify regulatory instructions so that the implementing regulations are accurate.

DATES: Effective October 3, 2025.

FOR FURTHER INFORMATION CONTACT: Amanda Budny, Chief, Direct Transactions and Positions Branch (BE-49), Bureau of Economic Analysis, U.S. Department of Commerce; email Amanda.Budny@bea.gov or 301-278-9154.

SUPPLEMENTARY INFORMATION: BEA published a final rule on September 3, 2025, (90 FR 42533) amending the regulations of the Department of Commerce's Bureau of Economic Analysis (BEA) to set forth the reporting requirements for the BE-13, Survey of New Foreign Direct Investment in the United States (“BE-13 survey”). This rule is effective October 3, 2025.

This action corrects the amendatory instructions to 15 CFR part 801. It also corrects the preamble. The BE-13 burden time was inadvertently counted as 36 minutes instead of 15 minutes. This error was not made in the PRA package. This action corrects amendatory regulatory instruction 2 from “amend” to “revise.” This correction is necessary to modify the incorrect regulatory instruction so the implementing regulations are accurate.

Corrections

In FR. Doc. 2025-16832 in the issue of September 3, 2025, starting on page 42533, the following corrections are made:

1. On page 42534, in the first column, in the first paragraph under the heading “Administrative Procedure Act and Regulatory Flexibility Act”, correct the phrase “the BE-13 claim for exemption form has an estimated burden time of 36 minutes” to read “the BE-13 claim for exemption has an estimated burden time of 15 minutes.”

§ 801.7 [Corrected]

2. On page 52534, in the third column, amendment 2 to part 801 is corrected to read:

“2. Revise § 801.7 to read as follows.”

Paul W. Farello,
Associate Director of International Economics, Bureau of Economic Analysis.

[FR Doc. 2025-18704 Filed 9-25-25; 8:45 am]

BILLING CODE 3510-06-P